DEPARTMENT OF HEALTH AND HUMAN SERVICES

National Institutes of Health

National Cancer Institute; Amended Notice of Meeting

Notice is hereby given of a change in the meeting of the National Cancer Institute Special Emphasis Panel, July 22, 2015, 11:00 a.m. to 04:00 p.m., National Cancer Institute Shady Grove, 9609 Medical Center Drive, 2W194, Rockville, MD, 20850 which was published in the Federal Register on June 23, 2015, 80 FR 35964.

The meeting notice is amended to change the date of the meeting from July 22, 2015 to August 19, 2015 and room number to 1E030. The meeting is closed to the public.

Dated: July 10, 2015.
Melanie J. Gray,
Program Analyst, Office of Federal Advisory Committee Policy.

[FR Doc. 2015-17342 Filed 7-14-15; 8:45 am]

BILLING CODE 4140-01-P